INTERNATIONAL TRADE COMMISSION

[Inv. No. 337-TA-560]

In the Matter of Certain Nor and Nand Flash Memory Devices and Products Containing Same; Notice of Correction

AGENCY: U.S. International Trade Commission.

ACTION: Correction of the notice of investigation for the above-captioned investigation.

SUMMARY: On February 13, 2006, the Commission published the notice of investigation for the above-captioned investigation under Section 337 of the Tariff Act of 1930, as amended (19 U.S.C. 1337). 71 FR 77576. The Commission hereby gives notice of the following corrections to that notice: (1) In the section labeled SUMMARY, “flash memory devices” should read “flash memory devices and products containing same,” and (2) in the section labeled Scope of Investigation, “flash memory devices” should read “flash memory devices or products containing same.” The Commission expects that the administrative law judge will extend the target date for completion of the investigation to the extent necessary to avoid any prejudice to any of the parties.

FOR FURTHER INFORMATION CONTACT: Clint Gerdine, Esq., telephone 202-708-2310, Office of the General Counsel, U.S. International Trade Commission, 500 E Street, SW., Washington, DC 20436. Copies of all nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS-ON-LINE) at http://edis.usitc.gov. Hearing-impaired persons are advised that information on the matter can be obtained by contacting the Commission's TDD terminal on 202-205-1810.

Issued: July 24, 2006.
By order of the Commission.
Marilyn R. Abbott.
Secretary to the Commission.

[FR Doc. E6-12143 Filed 7-28-06; 8:45 am]

BILLING CODE 7020-02-P